DEPARTMENT OF HOMELAND SECURITY

Federal Emergency Management Agency

[Docket ID FEMA-2023-0002; Internal Agency Docket No. FEMA-B-2338]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arizona:
Maricopa | City of Phoenix (22-09-0280P). | The Honorable Kate Gallego, Mayor, City of Phoenix, City Hall, 200 West Washington Street, Phoenix, AZ 85003. | Street Transportation Department, 200 West Washington Street, 5th Floor, Phoenix, AZ 85003. | https://msc.fema.gov/portal/advanceSearch. | Jul. 28, 2023 | 040051
Maricopa | City of Phoenix (22-09-1725P). | The Honorable Kate Gallego, Mayor, City of Phoenix, City Hall, 200 West Washington Street, Phoenix, AZ 85003. | Street Transportation Department, 200 West Washington Street, 5th Floor, Phoenix, AZ 85003. | https://msc.fema.gov/portal/advanceSearch. | Jul. 28, 2023 | 040051
Maricopa | City of Surprise (22-09-0693P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Aug. 4, 2023 | 040053
Pima | Town of Marana (22-09-0176P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Jul. 14, 2023 | 040118
California:
Marin | City of Novato (22-09-0167P). | The Honorable Susan Wernick, Mayor, City of Novato, 922 Machin Avenue, Novato, CA 94945. | Public Works Department, 922 Machin Avenue, Novato, CA 94945. | https://msc.fema.gov/portal/advanceSearch. | Aug. 4, 2023 | 060178
Placer | City of Rocklin (21-09-1531P). | The Honorable Ken Broadway, Mayor, City of Rocklin, 3970 Rocklin Road, Rocklin, CA 95677. | Engineering Department, 3970 Rocklin Road, Rocklin, CA 95677. | https://msc.fema.gov/portal/advanceSearch. | Aug. 14, 2023 | 060242
Riverside | City of Lake Elsinore (22-09-1014P). | The Honorable Natasha Johnson, Mayor, City of Lake Elsinore, 130 South Main Street, Lake Elsinore, CA 92530. | Engineering Division, 130 South Main Street, Lake Elsinore, CA 92530. | https://msc.fema.gov/portal/advanceSearch. | Aug. 18, 2023 | 060636
Santa Barbara | City of Santa Barbara (21-09-1771P). | The Honorable Randy Rowse, Mayor, City of Santa Barbara, City Hall, 735 Anacapa Street, Santa Barbara, CA 93101. | Community Development Department, Building and Safety Division, 630 Garden Street, Santa Barbara, CA 93101. | https://msc.fema.gov/portal/advanceSearch. | Aug. 1, 2023 | 060335
Ventura | City of Simi Valley (22-09-0986P). | The Honorable Fred D. Thomas, Mayor, City of Simi Valley, 2929 Tapo Canyon Road, Simi Valley, CA 93063. | City Hall, 2929 Tapo Canyon Road, Simi Valley, CA 93063. | https://msc.fema.gov/portal/advanceSearch. | Jul. 12, 2023 | 060421
Idaho:
Madison | City of Rexburg (22-10-0382P). | The Honorable Jerry Merrill, Mayor, City of Rexburg, 35 North 1st East, Rexburg, ID 83440. | City Hall, 12 North Center Street, Rexburg, ID 83440. | https://msc.fema.gov/portal/advanceSearch. | Aug. 14, 2023 | 160098
Madison. | Unincorporated Areas of Madison County (22-10-0382P). | Todd Smith, Chair, Madison County Commissioners, 134 East Main Street, Rexburg, ID 83440. | Madison County Courthouse, 159 East Main Street, Rexburg, ID 83440. | https://msc.fema.gov/portal/advanceSearch. | Aug. 14, 2023 | 160217
Illinois:
Will | City of Wilmington (22-05-2769P). | The Honorable Ben Dietz, Mayor, City of Wilmington, 1165 South Water Street, Wilmington, IL 60481. | City Hall, 1165 South Water Street, Wilmington, IL 60481. | https://msc.fema.gov/portal/advanceSearch. | Jul. 13, 2023 | 170715
Will | Unincorporated Areas of Will County (22-05-2410P). | The Honorable Jennifer Bertino-Tarrant, Will County Executive, Will County Office Building, 302 North Chicago Street, Joliet, IL 60432. | Will County Land Use Department, 58 East Clinton Street, Suite 100, Joliet, IL 60432. | https://msc.fema.gov/portal/advanceSearch. | Jul. 13, 2023 | 170695
Will | Unincorporated Areas of Will County (22-05-2769P). | The Honorable Jennifer Bertino-Tarrant, Will County Executive, Will County Office Building, 302 North Chicago Street, Joliet, IL 60432. | Will County Land Use Department, 58 East Clinton Street, Suite 100, Joliet, IL 60432. | https://msc.fema.gov/portal/advanceSearch. | Jul. 13, 2023 | 170695
Will | Village of Plainfield (22-05-2410P). | The Honorable John F. Argoudelis, Village President, Village of Plainfield, 24401 West Lockport Street, Plainfield, IL 60544. | Village Hall, 24401 West Lockport Street, Plainfield, IL 60544. | https://msc.fema.gov/portal/advanceSearch. | Jul. 13, 2023 | 170771
Iowa:
Dallas | City of Granger (22-07-0836P). | The Honorable Tony James, Mayor, City of Granger, City Hall, 1906 Main Street, Granger, IA 50109. | City Hall, 1906 Main Street, Granger, IA 50109. | https://msc.fema.gov/portal/advanceSearch. | Jun. 23, 2023 | 190104
Polk | Unincorporated Areas of Polk County (22-07-0774P). | Angela Connolly, County Chair, Polk County, Polk County Administration Building, 111 Court Avenue, Room 300, Des Moines, IA 50309. | Polk County Public Works, 5885 Northeast 14th Street, Des Moines, IA 50313. | https://msc.fema.gov/portal/advanceSearch. | Aug. 8, 2023 | 190901
Michigan:
Kent | Charter Township of Gaines (22-05-2589P). | Robert DeWard, Supervisor, Charter Township of Gaines, 8555 Kalamazoo Avenue Southeast, Caledonia, MI 49316. | Township Office, 8555 Kalamazoo Avenue Southeast, Caledonia, MI 49316. | https://msc.fema.gov/portal/advanceSearch. | Jul. 7, 2023 | 260990
Kent | Charter Township of Plainfield (22-05-2589P). | Tom Coleman, Supervisor, Charter Township of Plainfield, 6161 Belmont Avenue Northeast, Belmont, MI 49306. | Township Center, 6161 Belmont Avenue Northeast, Belmont, MI 49306. | https://msc.fema.gov/portal/advanceSearch. | Jul. 7, 2023 | 260109
Kent | City of Grand Rapids (22-05-2589P). | The Honorable Rosalynn Bliss, Mayor, City of Grand Rapids, 300 Monroe Avenue Northwest, Grand Rapids, MI 49503. | City Hall, 300 Monroe Avenue Northwest, Grand Rapids, MI 49503. | https://msc.fema.gov/portal/advanceSearch. | Jul. 7, 2023 | 260106
Kent | City of Grandville (22-05-2589P). | The Honorable Steve Maas, Mayor, City of Grandville, 3195 Wilson Avenue Southwest, Grandville, MI 49418. | City Hall, 3195 Wilson Avenue Southwest, Grandville, MI 49418. | https://msc.fema.gov/portal/advanceSearch. | Jul. 7, 2023 | 260271
Kent | City of Kentwood (22-05-2589P). | The Honorable Stephen Kepley, Mayor, City of Kentwood, P.O. Box 8848, Kentwood, MI 49508. | City Hall, 4900 Breton Avenue Southeast, Kentwood, MI 49508. | https://msc.fema.gov/portal/advanceSearch. | Jul. 7, 2023 | 260107
Kent | City of Walker (22-05-2589P). | The Honorable Gary Carey, Mayor, City of Walker, 4243 Remembrance Road Northwest, Walker, MI 49534. | City Hall, 4243 Remembrance Road Northwest, Walker, MI 49534. | https://msc.fema.gov/portal/advanceSearch. | Jul. 7, 2023 | 260110
Kent | City of Wyoming (22-05-2589P). | The Honorable Jack Poll, Mayor, City of Wyoming, P.O. Box 905, Wyoming, MI 49509. | City Hall, 1155 28th Street Southwest, Wyoming, MI 49509. | https://msc.fema.gov/portal/advanceSearch. | Jul. 7, 2023 | 260111
Kent | Township of Alpine (22-05-2589P). | Greg Madura, Supervisor, Township of Alpine, 5255 Alpine Avenue Northwest, Comstock Park, MI 49321. | Alpine Township Municipal Building, 5255 Alpine Avenue Northwest, Comstock Park, MI 49321. | https://msc.fema.gov/portal/advanceSearch. | Jul. 7, 2023 | 260961
Kent | Township of Cannon (22-05-2589P). | Steve Grimm, Supervisor, Township of Cannon, 6878 Belding Road, Rockford, MI 49341. | Cannon Township Center, 6878 Belding Road, Rockford, MI 49341. | https://msc.fema.gov/portal/advanceSearch. | Jul. 7, 2023 | 260734
Nevada: Washoe | Unincorporated Areas of Washoe County (22-09-0783P). | The Honorable Vaughn Hartung, Chair, Board of Commissioners, Washoe County, 1001 East 9th Street, Reno, NV 89512. | Washoe County Administration Building, Department of Public Works, 1001 East 9th Street, Reno, NV 89512. | https://msc.fema.gov/portal/advanceSearch. | Jul. 20, 2023 | 320019
New York:
Clinton | Town of Black Brook (23-02-0220P). | Jon Douglass, Supervisor, Town of Black Brook, P.O. Box 715, AuSable Forks, NY 12912. | Black Brook Town Hall, 18 North Main Street, AuSable Forks, NY 12912. | https://msc.fema.gov/portal/advanceSearch. | Sep. 21, 2023 | 361309
Orange | Town of Goshen (23-02-0099P). | Joseph Betro, Town Supervisor, Town of Goshen, 41 Webster Avenue, Goshen, NY 10924. | Town Hall, 41 Webster Avenue, Goshen, NY 10924. | https://msc.fema.gov/portal/advanceSearch. | Sep. 21, 2023 | 360614
Orange | Village of Goshen (23-02-0099P). | The Honorable Scott Wohl, Mayor, Village of Goshen, Board of Trustees, 276 Main Street, Goshen, NY 10924. | Village Hall, 276 Main Street, Goshen, NY 10924. | https://msc.fema.gov/portal/advanceSearch. | Sep. 21, 2023 | 361571
Ohio: Licking | Unincorporated Areas of Licking County (22-05-2046P). | Timothy E. Bubb, President, Board of Licking County Commissioners, County Administration Building, 20 South Second Street, Newark, OH 43055. | Licking County Administration Building, 20 South Second Street, Newark, OH 43055. | https://msc.fema.gov/portal/advanceSearch. | Jul. 18, 2023 | 390328
Tennessee: Shelby | City of Memphis (22-04-5686P). | The Honorable Jim Strickland, Mayor, City of Memphis, City Hall, 125 North Main Street Room 700, Memphis, TN 38103. | Department of Engineering, 125 North Main Street, Room 476, Memphis, TN 38103. | https://msc.fema.gov/portal/advanceSearch. | Aug. 3, 2023 | 470177
Texas: Tarrant | City of North Richland Hills (21-06-1861P). | The Honorable Oscar Trevino, Jr., Mayor, City of North Richland Hills, 4301 City Point Drive, North Richland Hills, TX 76180. | City Hall, 4301 City Point Drive, North Richland Hills TX 76180. | https://msc.fema.gov/portal/advanceSearch. | Jul. 17, 2023 | 480607
Washington: King | City of Shoreline (22-10-0967P). | The Honorable Keith Scully, Mayor, City of Shoreline, 17500 Midvale Avenue North, Shoreline, WA 98133. | City Hall, Planning and Community Development Department, 17500 Midvale Avenue North, Shoreline, WA 98133. | https://msc.fema.gov/portal/advanceSearch. | Jul. 17, 2023 | 530327

[FR Doc. 2023-09789 Filed 5-8-23; 8:45 am]

BILLING CODE 9110-12-P